COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products and services to the Procurement List that will be furnished by nonprofit agencies employing persons who are blind or have other severe disabilities.

DATES: Effective Date: September 27, 2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 10/23/2009 (74 FR 54783-54784); 6/18/2010 (75 FR 34701-34702); 6/25/2010 (75 FR 36363-36371); and 7/9/2010 (75 FR 39497-39499), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7510-01-386-1609—Pen, Correction

NSN: 7520-01-207-4167—Markers, Paint, Oil Based, Med Pt, Asst Color 6/ST

NSN: 7520-01-207-4168—Marker, Paint, Oil Based, Med Pt, Asst Color 12/ST

NSN: 7520-01-207-4159—Marker, Paint, Oil Based, Fine Pt, White, 1 DZ

NSN: 7520-00-NIB-2075—Markers, Paint, Oil Based, Med Pt, White 6/PG

NSN: 7520-00-NIB-2076—Markers, Paint, Med Pt, Oil Based, Yellow 6/PG

NSN: 7520-00-NIB-2078—Markers, Paint, Med Pt, Oil Based, Rubber Grip, Green

NSN: 7520-00-NIB-2079—Markers, Paint, Med Pt, Oil Based, Black

Coverage: A-List for the Total Government Requirement as aggregated by the General Services Administration.

NSN: 7520-00-NIB-2077—Markers, Paint, Oil Based, Med Pt, Rubber Grip, Blue

NSN: 7520-00-NIB-2080—Markers, Paint, Med Pt, Oil Based, Red, 6/PG

Coverage: B-List for the Broad Government Requirement as aggregated by the General Services Administration.

NPA: Alphapointe Association for the Blind, Kansas City, MO.

Contracting Activity: GSA/Federal Acquisition Service, New York, NY.

NSN: 7920-00-NIB-0508—WetTask Wiping System—Bucket

NSN: 7920-00-NIB-0510—WetTask Wiping System—Canister

NPA: East Texas Lighthouse for the Blind, Tyler, TX

Contracting Activity: Department of Veterans Affairs, National Acquisition Center, Hines, IL

Coverage: C-List for 100% of the requirement of the Department of Veterans Affairs as aggregated by the Department of Veterans Affairs National Acquisition Center, Hines, IL.

NSN: 8540-00-NIB-0053—Hard Roll Paper Towel, Non-Perforated, 1-ply, 8″ x 600′ rolls, white

NSN: 8540-00-NIB-0054—Hard Roll Paper Towel, Non-Perforated, 1-ply, 8″ x 600′ rolls, natural

NSN: 8540-00-NIB-0055—Hard Roll Paper Towel, Non-Perforated, 1-ply, 8″ x 800′ rolls, white

NSN: 8540-00-NIB-0056—Hard Roll Paper Towel, Non-Perforated, 1-ply, 8″ x 800′ rolls, natural

NSN: 8540-00-NIB-0057—Hard Roll Paper Towel, Non-Perforated, 1-ply, 8″ x 350′ rolls, white

NSN: 8540-00-NIB-0061—Jumbo Roll Toilet Tissue, 1 ply, 3.7″ x 2000′

NSN: 8540-00-NIB-0063—Jumbo Roll Toilet Tissue, 2 ply, 3.7″ x 1000′

NSN: 8540-00-NIB-0007—Jumbo Roll Toilet Tissue, 2 ply, 3.7″ x 2000′, 12″ dia. roll

NSN: 8540-00-NIB-0064—Center-Pull Paper Towel, 2-ply, Perforated, 8.25 ″ x 12 ″ sheets, 600, white

NPA: Outlook-Nebraska, Incorporated, Omaha, NE

Contracting Activity: GSA/Federal Acquisition Service, New York, NY.

Coverage: A-List for the Total Government Requirement as aggregated by the General Services Administration.

NSN: MR 549—Sponge, Pop-Up, Small

NPA: Mississippi Industries for the Blind, Jackson, MS

Contracting Activity: Military Resale-Defense Commissary Agency, Fort Lee, VA

Coverage: C-List for the requirement of military commissaries and exchanges as aggregated by the Defense Commissary Agency.

NSN: 8415-01-579-8677—Multi-Cam Trouser

NSN: 8415-01-579-8714—Multi-Cam Trouser

NSN: 8415-01-579-8719—Multi-Cam Trouser

NSN: 8415-01-579-8744—Multi-Cam Trouser

NSN: 8415-01-579-8766—Multi-Cam Trouser

NSN: 8415-01-579-8385—Multi-Cam Trouser

NSN: 8415-01-579-8551—Multi-Cam Trouser

NSN: 8415-01-579-8553—Multi-Cam Trouser

NSN: 8415-01-579-8558—Multi-Cam Trouser

NSN: 8415-01-579-8561—Multi-Cam Trouser

NSN: 8415-01-579-8570—Multi-Cam Trouser

NSN: 8415-01-579-8580—Multi-Cam Trouser

NSN: 8415-01-579-8684—Multi-Cam Trouser

NSN: 8415-01-579-8227—Multi-Cam Trouser

NSN: 8415-01-579-8263—Multi-Cam Trouser

NSN: 8415-01-579-8276—Multi-Cam Trouser

NSN: 8415-01-579-8354—Multi-Cam Trouser

NSN: 8415-01-579-8365—Multi-Cam Trouser

NSN: 8415-01-579-8788—Multi-Cam Trouser

NSN: 8415-01-579-8791—Multi-Cam Trouser

NSN: 8415-01-579-8771—Multi-Cam Trouser

NSN: 8415-01-579-9123—Multi-Cam Trouser

NSN: 8415-01-579-9119—Multi-Cam Trouser

NSN: 8415-01-579-8080—Multi-Cam Trouser

NSN: 8415-01-579-8098—Multi-Cam Trouser

NSN: 8415-01-579-8112—Multi-Cam Trouser

NSN: 8415-01-579-8126—Multi-Cam Trouser

NSN: 8415-01-582-4206—Multi-Cam Trouser

NSN: 8415-01-579-7850—Multi-Cam Trouser

NSN: 8415-01-579-9121—Multi-Cam Trouser

NSN: 8415-01-579-9130—Multi-Cam Trouser

NSN: 8415-01-579-9132—Multi-Cam Trouser

NSN: 8415-01-579-8591—Multi-Cam Trouser

NSN: 8415-01-579-8776—Multi-Cam Trouser

NSN: 8415-01-579-9120—Multi-Cam Trouser

NSN: 8415-01-579-8784—Multi-Cam Trouser

NPAs: ReadyOne Industries, Inc., El Paso, TX

Goodwill Industries of South Florida, Inc., Miami, FL

Contracting Activity: Department of the Army Research, Development, & Engineering Command, Natick, MA.

Coverage: C-List for 50% of the requirement of the U.S. Army, as aggregated by the Department of the Army Research, Development, & Engineering Command, Natick, MA.

Kit, Pre-Cut Fabric

NSN: 8405-00-FAB-0201—Man's, S/S, Air Force Shade 1550, Size 13½

NSN: 8405-00-FAB-0202—Man's, S/S, Air Force Shade 1550, Size 14

NSN: 8405-00-FAB-0203—Man's, S/S, Air Force Shade 1550, Size 14 ½

NSN: 8405-00-FAB-0204—Man's, S/S, Air Force Shade 1550, Size 15

NSN: 8405-00-FAB-0212—Man's, S/S, Air Force Shade 1550, Size 15 ½

NSN: 8405-00-FAB-0252—Man's, S/S, Air Force Shade 1550, Size 16

NSN: 8405-00-FAB-0253—Man's, S/S, Air Force Shade 1550, Size 16 ½

NSN: 8405-00-FAB-0254—Man's, S/S, Air Force Shade 1550, Size 17

NSN: 8405-00-FAB-0255—Man's, S/S, Air Force Shade 1550, Size 17 ½

NSN: 8405-00-FAB-0256—Man's, S/S, Air Force Shade 1550, Size 18

NSN: 8405-00-FAB-0257—Man's, S/S, Air Force Shade 1550, Size 18 ½

NSN: 8405-00-FAB-0258—Man's, S/S, Air Force Shade 1550, Size 19

NSN: 8405-00-FAB-0278—Man's, S/S, Air Force Shade 1550, Size 20

NSN: 8410-00-FAB-8362—Woman's, S/S, Air Force Shade 1550, Size 2

NSN: 8410-00-FAB-8361—Woman's, S/S, Air Force Shade 1550, Size 4

NSN: 8410-00-FAB-8360—Woman's, S/S, Air Force Shade 1550, Size 6

NSN: 8410-00-FAB-8359—Woman's, S/S, Air Force Shade 1550, Size 8

NSN: 8410-00-FAB-8358—Woman's, S/S, Air Force Shade 1550, Size 10

NSN: 8410-00-FAB-8357—Woman's, S/S, Air Force Shade 1550, Size 12

NSN: 8410-00-FAB-8356—Woman's, S/S, Air Force Shade 1550, Size 14

NSN: 8410-00-FAB-8355—Woman's, S/S, Air Force Shade 1550, Size 16

NSN: 8410-00-FAB-8354—Woman's, S/S, Air Force Shade 1550, Size 18

NSN: 8410-00-FAB-8353—Woman's, S/S, Air Force Shade 1550, Size 20

NSN: 8410-00-FAB-8395—Women's, L/S, Air Force Shade 1550, Size 4S

NSN: 8410-00-FAB-8396—Women's, L/S, Air Force Shade 1550, Size 4R

NSN: 8410-00-FAB-8398—Women's, L/S, Air Force Shade 1550, Size 6S

NSN: 8410-00-FAB-8399—Women's, L/S, Air Force Shade 1550, Size 6R

NSN: 8410-00-FAB-8409—Women's, L/S, Air Force Shade 1550, Size 6L

NSN: 8410-00-FAB-8411—Women's, L/S, Air Force Shade 1550, Size 8R

NSN: 8410-00-FAB-8412—Women's, L/S, Air Force Shade 1550, Size 8L

NSN: 8410-00-FAB-8413—Women's, L/S, Air Force Shade 1550, Size 10S

NSN: 8410-00-FAB-8414—Women's, L/S, Air Force Shade 1550, Size 10R

NSN: 8410-00-FAB-8415—Women's, L/S, Air Force Shade 1550, Size 10L

NSN: 8410-00-FAB-8416—Women's, L/S, Air Force Shade 1550, Size 12S

NSN: 8410-00-FAB-8417—Women's, L/S, Air Force Shade 1550, Size 12R

NSN: 8410-00-FAB-8418—Women's, L/S, Air Force Shade 1550, Size 12L

NSN: 8410-00-FAB-8420—Women's, L/S, Air Force Shade 1550, Size 14R

NSN: 8410-00-FAB-8421—Women's, L/S, Air Force Shade 1550, Size 14L

NSN: 8410-00-FAB-8423—Women's, L/S, Air Force Shade 1550, Size 16R

NSN: 8410-00-FAB-8424—Women's, L/S, Air Force Shade 1550, Size 16L

NSN: 8410-00-FAB-8426—Women's, L/S, Air Force Shade 1550, Size 18R

NPA: Raleigh Lions Clinic for the Blind, Inc., Raleigh, NC

NSN: 8405-00-COV-4602—Coveralls, Utility, US Navy, Blue, 34-XS

NSN: 8405-00-COV-4607—Coveralls, Utility, US Navy, Blue, 36-XS

NSN: 8405-00-COV-3482—Coveralls, Utility, US Navy, Blue, 36-S

NSN: 8405-00-COV-3483—Coveralls, Utility, US Navy, Blue, 36-R

NSN: 8405-00-COV-4609—Coveralls, Utility, US Navy, Blue, 38-XS

NSN: 8405-00-COV-3484—Coveralls, Utility, US Navy, Blue, 38-S

NSN: 8405-00-COV-3485—Coveralls, Utility, US Navy, Blue, 38-R

NSN: 8405-00-COV-3486—Coveralls, Utility, US Navy, Blue, 38-L

NSN: 8405-00-COV-4625—Coveralls, Utility, US Navy, Blue, 38-XL

NSN: 8405-00-COV-9497—Coveralls, Utility, US Navy, Blue, 40-XS

NSN: 8405-00-COV-3487—Coveralls, Utility, US Navy, Blue, 40-S

NSN: 8405-00-COV-3488—Coveralls, Utility, US Navy, Blue, 40-R

NSN: 8405-00-COV-3489—Coveralls, Utility, US Navy, Blue, 40-L

NSN: 8405-00-COV-4667—Coveralls, Utility, US Navy, Blue, 40-XL

NSN: 8405-00-COV-3490—Coveralls, Utility, US Navy, Blue, 42-S

NSN: 8405-00-COV-3491—Coveralls, Utility, US Navy, Blue, 42-R

NSN: 8405-00-COV-3492—Coveralls, Utility, US Navy, Blue, 42-L

NSN: 8405-00-COV-1553—Coveralls, Utility, US Navy, Blue, 42-XL

NSN: 8405-00-COV-3493—Coveralls, Utility, US Navy, Blue, 44-S

NSN: 8405-00-COV-3494—Coveralls, Utility, US Navy, Blue, 44-R

NSN: 8405-00-COV-5582—Coveralls, Utility, US Navy, Blue, 44-L

NSN: 8405-00-COV-1557—Coveralls, Utility, US Navy, Blue, 44-XL

NSN: 8405-00-COV-0572—Coveralls, Utility, US Navy, Blue, 44-2XL

NSN: 8405-00-COV-3495—Coveralls, Utility, US Navy, Blue, 46-S

NSN: 8405-00-COV-3496—Coveralls, Utility, US Navy, Blue, 46-R

NSN: 8405-00-COV-3497—Coveralls, Utility, US Navy, Blue, 46-L

NSN: 8405-00-COV-1560—Coveralls, Utility, US Navy, Blue, 46-XL

NSN: 8405-00-COV-0647—Coveralls, Utility, US Navy, Blue, 46-2XL

NSN: 8405-00-COV-3498—Coveralls, Utility, US Navy, Blue, 48-R

NSN: 8405-00-COV-3499—Coveralls, Utility, US Navy, Blue, 48-L

NSN: 8405-00-COV-1567—Coveralls, Utility, US Navy, Blue, 48-XL

NSN: 8405-00-COV-0650—Coveralls, Utility, US Navy, Blue, 48-2XL

NSN: 8405-00-COV-0354—Coveralls, Utility, US Navy, Blue, 50-R

NSN: 8405-00-COV-0636—Coveralls, Utility, US Navy, Blue, 50-L

NSN: 8405-00-COV-1569—Coveralls, Utility, US Navy, Blue, 50-XL

NSN: 8405-00-COV-0649—Coveralls, Utility, US Navy, Blue, 50-2XL

NSN: 8405-00-COV-0641—Coveralls, Utility, US Navy, Blue, 52-R

NSN: 8405-00-COV-0639—Coveralls, Utility, US Navy, Blue, 52-L

NSN: 8405-00-COV-1571—Coveralls, Utility, US Navy, Blue, 52-XL

NSN: 8405-00-COV-0651—Coveralls, Utility, US Navy, Blue, 52-2XL

NSN: 8405-00-COV-4670—Coveralls, Utility, US Navy, Blue, 54-L

NSN: 8405-00-COV-4672—Coveralls, Utility, US Navy, Blue, 54-XL

NSN: 8405-00-COV-0652—Coveralls, Utility, US Navy, Blue, 54-2XL

NSN: 8405-00-COV-9127—Coveralls, Utility, US Navy, Blue, 56-R

NSN: 8405-00-COV-4009—Coveralls, Utility, US Navy, Green, 36-S

NSN: 8405-00-COV-4011—Coveralls, Utility, US Navy, Green, 36-R

NSN: 8405-00-COV-4017—Coveralls, Utility, US Navy, Green, 38-S

NSN: 8405-00-COV-4022—Coveralls, Utility, US Navy, Green, 38-R

NSN: 8405-00-COV-4032—Coveralls, Utility, US Navy, Green, 38-L

NSN: 8405-00-COV-4038—Coveralls, Utility, US Navy, Green, 40-S

NSN: 8405-00-COV-4039—Coveralls, Utility, US Navy, Green, 40-R

NSN: 8405-00-COV-4058—Coveralls, Utility, US Navy, Green, 40-L

NSN: 8405-00-COV-4063—Coveralls, Utility, US Navy, Green, 42-S

NSN: 8405-00-COV-4143—Coveralls, Utility, US Navy, Green, 42-R

NSN: 8405-00-COV-4294—Coveralls, Utility, US Navy, Green, 42-L

NSN: 8405-00-COV-4298—Coveralls, Utility, US Navy, Green, 44-S

NSN: 8405-00-COV-4320—Coveralls, Utility, US Navy, Green, 44-R

NSN: 8405-00-COV-4346—Coveralls, Utility, US Navy, Green, 44-L

NSN: 8405-00-COV-4361—Coveralls, Utility, US Navy, Green, 46-S

NSN: 8405-00-COV-4375—Coveralls, Utility, US Navy, Green, 46-R

NSN: 8405-00-COV-4439—Coveralls, Utility, US Navy, Green, 46-L

NSN: 8405-00-COV-4679—Coveralls, Utility, US Navy, Green, 48-R

NSN: 8405-00-COV-4906—Coveralls, Utility, US Navy, Green, 48-L

NSN: 8405-00-COV-4911—Coveralls, Utility, US Navy, Green, 50-R

NSN: 8405-00-COV-4926—Coveralls, Utility, US Navy, Green, 50-L

NSN: 8405-00-COV-4930—Coveralls, Utility, US Navy, Green, 52-R

NSN: 8405-00-COV-4960—Coveralls, Utility, US Navy, Green, 52-L

NSN: 8415-00-FAB-6409—GEN III ECWCS, Trouser, UCamo, XL-XL

NSN: 8415-00-FAB-6410—GEN III ECWCS, Trouser, UCamo, XS-XS

NSN: 8415-00-FAB-6411—GEN III ECWCS, Trouser, UCamo, XS-S

NSN: 8415-00-FAB-6412—GEN III ECWCS, Trouser, UCamo, XS-R

NSN: 8415-00-FAB-6413—GEN III ECWCS, Trouser, UCamo, XS-L

NSN: 8415-00-FAB-6414—GEN III ECWCS, Trouser, UCamo, XS-XL

NSN: 8415-00-FAB-6416—GEN III ECWCS, Trouser, UCamo, S-XS

NSN: 8415-00-FAB-6417—GEN III ECWCS, Trouser, UCamo, S-S

NSN: 8415-00-FAB-6418—GEN III ECWCS, Trouser, UCamo, S-R

NSN: 8415-00-FAB-6419—GEN III ECWCS, Trouser, UCamo, S-L

NSN: 8415-00-FAB-6424—GEN III ECWCS, Trouser, UCamo, S-XL

NSN: 8415-00-FAB-6425—GEN III ECWCS, Trouser, UCamo, M-XS

NSN: 8415-00-FAB-6426—GEN III ECWCS, Trouser, UCamo, M-S

NSN: 8415-00-FAB-6427—GEN III ECWCS, Trouser, UCamo, M-R

NSN: 8415-00-FAB-6428—GEN III ECWCS, Trouser, UCamo, M-L

NSN: 8415-00-FAB-6429—GEN III ECWCS, Trouser, UCamo, M-XL

NSN: 8415-00-FAB-6430—GEN III ECWCS, Trouser, UCamo, L-S

NSN: 8415-00-FAB-6436—GEN III ECWCS, Trouser, UCamo, L-XS

NSN: 8415-00-FAB-6437—GEN III ECWCS, Trouser, UCamo, L-R

NSN: 8415-00-FAB-6441—GEN III ECWCS, Trouser, UCamo, L-L

NSN: 8415-00-FAB-6442—GEN III ECWCS, Trouser, UCamo, L-XL

NSN: 8415-00-FAB-6443—GEN III ECWCS, Trouser, UCamo, XL-XS

NSN: 8415-00-FAB-6445—GEN III ECWCS, Trouser, UCamo, XL-S

NSN: 8415-00-FAB-6446—GEN III ECWCS, Trouser, UCamo, XL-R

NSN: 8415-00-FAB-6448—GEN III ECWCS, Trouser, UCamo, XL-L

NSN: 8415-00-FAB-6529—GEN III ECWCS, Trouser, UCamo, 2XL-2XL

NSN: 8415-00-FAB-6537—GEN III ECWCS, Trouser, UCamo, 2XL-L

NSN: 8415-00-FAB-6536—GEN III ECWCS, Trouser, UCamo, 2XL-R

NSN: 8415-00-FAB-6535—GEN III ECWCS, Trouser, UCamo, 2XL-S

NSN: 8415-00-FAB-6538—GEN III ECWCS, Trouser, UCamo, 2XL-XL

NSN: 8415-00-FAB-6534—GEN III ECWCS, Trouser, UCamo, 2XL-XS

NSN: 8415-00-FAB-6533—GEN III ECWCS, Trouser, UCamo, L-2XL

NSN: 8415-00-FAB-6530—GEN III ECWCS, Trouser, UCamo, M-2XL

NSN: 8415-00-FAB-6532—GEN III ECWCS, Trouser, UCamo, S-2XL

NSN: 8415-00-FAB-6531—GEN III ECWCS, Trouser, UCamo, XL-2XL

NSN: 8415-00-FAB-6528—GEN III ECWCS, Trouser, UCamo, SX-2XL

NSN: 8405-00-NIB-0307—Man's, S/S, Army White, Athletic, 15.5R-A

NSN: 8405-00-NIB-0308—Man's, S/S, Army White, Athletic, 16R-A

NSN: 8405-00-NIB-0309—Man's, S/S, Army White, Athletic, 16L-A

NSN: 8405-00-NIB-0310—Man's, S/S, Army White, Athletic, 16.5R-A

NSN: 8405-00-NIB-0311—Man's, S/S, Army White, Athletic, 16.5L-A

NSN: 8405-00-NIB-0312—Man's, S/S, Army White, Athletic, 17R-A

NSN: 8405-00-NIB-0313—Man's, S/S, Army White, Athletic, 17L-A

NSN: 8405-00-NIB-0314—Man's, S/S, Army White, Athletic, 17.5R-A

NSN: 8405-00-NIB-0315—Man's, S/S, Army White, Athletic, 17.5L-A

NSN: 8405-00-NIB-0316—Man's, S/S, Army White, Athletic, 18R-A

NSN: 8405-00-NIB-0317—Man's, S/S, Army White, Athletic, 18L-A

NSN: 8405-00-NIB-0318—Man's, S/S, Army White, Athletic, 18.5L-A

NSN: 8405-00-NIB-0319—Man's, S/S, Army White, Athletic, 19L-A

NSN: 8405-00-NIB-0320—Man's, S/S, Army White, Classic, 13.5R-C

NSN: 8405-00-NIB-0321—Man's, S/S, Army White, Classic, 14R-C

NSN: 8405-00-NIB-0322—Man's, S/S, Army White, Classic, 14.5R-C

NSN: 8405-00-NIB-0323—Man's, S/S, Army White, Classic, 15R-C

NSN: 8405-00-NIB-0324—Man's, S/S, Army White, Classic, 15.5R-C

NSN: 8405-00-NIB-0325—Man's, S/S, Army White, Classic, 16R-C

NSN: 8405-00-NIB-0326—Man's, S/S, Army White, Classic, 16L-C

NSN: 8405-00-NIB-0327—Man's, S/S, Army White, Classic, 16.5R-C

NSN: 8405-00-NIB-0328—Man's, S/S, Army White, Classic, 16.5L-C

NSN: 8405-00-NIB-0329—Man's, S/S, Army White, Classic, 17R-C

NSN: 8405-00-NIB-0330—Man's, S/S, Army White, Classic, 17L-C

NSN: 8405-00-NIB-0331—Man's, S/S, Army White, Classic, 17.5R-C

NSN: 8405-00-NIB-0332—Man's, S/S, Army White, Classic, 17.5L-C

NSN: 8405-00-NIB-0333—Man's, S/S, Army White, Classic, 18R-C

NSN: 8405-00-NIB-0334—Man's, S/S, Army White, Classic, 18L-C

NSN: 8405-00-NIB-0335—Man's, S/S, Army White, Classic, 18.5R-C

NSN: 8405-00-NIB-0336—Man's, S/S, Army White, Classic, 18.5L-C

NSN: 8405-00-NIB-0337—Man's, S/S, Army White, Classic, 19R-C

NSN: 8405-00-NIB-0338—Man's, S/S, Army White, Classic, 19L-C

NSN: 8405-00-NIB-0339—Man's, L/S, Army White, Athletic, 15.5x32/33-A

NSN: 8405-00-NIB-0340—Man's, L/S, Army White, Athletic, 15.5x34/35-A

NSN: 8405-00-NIB-0341—Man's, L/S, Army White, Athletic, 16x30/31-A

NSN: 8405-00-NIB-0342—Man's, L/S, Army White, Athletic, 16x32/33-A

NSN: 8405-00-NIB-0343—Man's, L/S, Army White, Athletic, 16x34/35-A

NSN: 8405-00-NIB-0344—Man's, L/S, Army White, Athletic, 16.5x32/33-A

NSN: 8405-00-NIB-0345—Man's, L/S, Army White, Athletic, 16.5x34/35-A

NSN: 8405-00-NIB-0346—Man's, L/S, Army White, Athletic, 16.5x36/37-A

NSN: 8405-00-NIB-0347—Man's, L/S, Army White, Athletic, 17x32/33-A

NSN: 8405-00-NIB-0348—Man's, L/S, Army White, Athletic, 17x34/35-A

NSN: 8405-00-NIB-0349—Man's, L/S, Army White, Athletic, 17x36/37-A

NSN: 8405-00-NIB-0350—Man's, L/S, Army White, Athletic, 17x38-A

NSN: 8405-00-NIB-0351—Man's, L/S, Army White, Athletic, 17.5x32/33-A

NSN: 8405-00-NIB-0352—Man's, L/S, Army White, Athletic, 17.5x34/35-A

NSN: 8405-00-NIB-0353—Man's, L/S, Army White, Athletic, 17.5x36/37-A

NSN: 8405-00-NIB-0354—Man's, L/S, Army White, Athletic, 18x32/33-A

NSN: 8405-00-NIB-0355—Man's, L/S, Army White, Athletic, 18x34/35-A

NSN: 8405-00-NIB-0356—Man's, L/S, Army White, Athletic, 18x36/37-A

NSN: 8405-00-NIB-0357—Man's, L/S, Army White, Athletic, 18x38-A

NSN: 8405-00-NIB-0358—Man's, L/S, Army White, Athletic, 18.5x32/33-A

NSN: 8405-00-NIB-0359—Man's, L/S, Army White, Athletic, 18.5x34/35-A

NSN: 8405-00-NIB-0360—Man's, L/S, Army White, Athletic, 18.5x36/37-A

NSN: 8405-00-NIB-0361—Man's, L/S, Army White, Athletic, 18.5x38-A

NSN: 8405-00-NIB-0362—Man's, L/S, Army White, Athletic, 19x34/35-A

NSN: 8405-00-NIB-0363—Man's, L/S, Army White, Athletic, 19x36/37-A

NSN: 8405-00-NIB-0364—Man's, L/S, Army White, Athletic, 19x38-A

NSN: 8405-00-NIB-0365—Man's, L/S, Army White, Athletic, 19.5x34/35-A

NSN: 8405-00-NIB-0366—Man's, L/S, Army White, Athletic, 19.5x36/37-A

NSN: 8405-00-NIB-0367—Man's, L/S, Army White, Athletic, 20x34/35-A

NSN: 8405-00-NIB-0368—Man's, L/S, Army White, Athletic, 20x36/37-A

NSN: 8405-00-NIB-0369—Man's, L/S, Army White, Classic, 13.5x32/33-C

NSN: 8405-00-NIB-0370—Man's, L/S, Army White, Classic, 14x29-C

NSN: 8405-00-NIB-0371—Man's, L/S, Army White, Classic, 14x30/31-C

NSN: 8405-00-NIB-0372—Man's, L/S, Army White, Classic, 14x32/33-C

NSN: 8405-00-NIB-0373—Man's, L/S, Army White, Classic, 14.5x30/31-C

NSN: 8405-00-NIB-0374—Man's, L/S, Army White, Classic, 14.5x32/33-C

NSN: 8405-00-NIB-0375—Man's, L/S, Army White, Classic, 15x29-C

NSN: 8405-00-NIB-0376—Man's, L/S, Army White, Classic, 15x30/31-C

NSN: 8405-00-NIB-0377—Man's, L/S, Army White, Classic, 15x32/33-C

NSN: 8405-00-NIB-0378—Man's, L/S, Army White, Classic, 15x34/35-C

NSN: 8405-00-NIB-0379—Man's, L/S, Army White, Classic, 15.5x30/31-C

NSN: 8405-00-NIB-0380—Man's, L/S, Army White, Classic, 15.5x32/33-C

NSN: 8405-00-NIB-0381—Man's, L/S, Army White, Classic, 15.5x34/35-C

NSN: 8405-00-NIB-0382—Man's, L/S, Army White, Classic, 15.5x36/37-C

NSN: 8405-00-NIB-0383—Man's, L/S, Army White, Classic, 16x29-C

NSN: 8405-00-NIB-0384—Man's, L/S, Army White, Classic, 16x30/31-C

NSN: 8405-00-NIB-0385—Man's, L/S, Army White, Classic, 16x32/33-C

NSN: 8405-00-NIB-0386—Man's, L/S, Army White, Classic, 16x34/35-C

NSN: 8405-00-NIB-0387—Man's, L/S, Army White, Classic, 16x36/37-C

NSN: 8405-00-NIB-0388—Man's, L/S, Army White, Classic, 16x38-C

NSN: 8405-00-NIB-0389—Man's, L/S, Army White, Classic, 16.5x30/31-C

NSN: 8405-00-NIB-0390—Man's, L/S, Army White, Classic, 16.5x32/33-C

NSN: 8405-00-NIB-0391—Man's, L/S, Army White, Classic, 16.5x34/35-C

NSN: 8405-00-NIB-0392—Man's, L/S, Army White, Classic, 16.5x36/37-C

NSN: 8405-00-NIB-0393—Man's, L/S, Army White, Classic, 16.5x38-C

NSN: 8405-00-NIB-0394—Man's, L/S, Army White, Classic, 17x32/33-C

NSN: 8405-00-NIB-0395—Man's, L/S, Army White, Classic, 17x34/35-C

NSN: 8405-00-NIB-0396—Man's, L/S, Army White, Classic, 17x36/37-C

NSN: 8405-00-NIB-0397—Man's, L/S, Army White, Classic, 17.5x32/33-C

NSN: 8405-00-NIB-0398—Man's, L/S, Army White, Classic, 17.5x34/35-C

NSN: 8405-00-NIB-0399—Man's, L/S, Army White, Classic, 17.5x36/37-C

NSN: 8405-00-NIB-0400—Man's, L/S, Army White, Classic, 18x32/33-C

NSN: 8405-00-NIB-0401—Man's, L/S, Army White, Classic, 18x34/35-C

NSN: 8405-00-NIB-0402—Man's, L/S, Army White, Classic, 18x36/37-C

NSN: 8405-00-NIB-0403—Man's, L/S, Army White, Classic, 18x38-C

NSN: 8405-00-NIB-0404—Man's, L/S, Army White, Classic, 18.5x34/35-C

NSN: 8405-00-NIB-0405—Man's, L/S, Army White, Classic, 18.5x36/37-C

NSN: 8405-00-NIB-0406—Man's, L/S, Army White, Classic, 18.5x38-C

NSN: 8405-00-NIB-0407—Man's, L/S, Army White, Classic, 19x34/35-C

NSN: 8405-00-NIB-0408—Man's, L/S, Army White, Classic, 19x36/37-C

NSN: 8405-00-NIB-0409—Man's, L/S, Army White, Classic, 19x38-C

NPA: Winston-Salem Industries for the Blind, Winston-Salem, NC

NSN: 8415-00-FAB-5722—ACU Coat, XS-XS

NSN: 8415-00-FAB-5723—ACU Coat, XS-S

NSN: 8415-00-FAB-5724—ACU Coat, XS-R

NSN: 8415-00-FAB-5725—ACU Coat, S-XXS

NSN: 8415-00-FAB-5726—ACU Coat, S-XS

NSN: 8415-00-FAB-5728—ACU Coat, S-R

NSN: 8415-00-FAB-5727—ACU Coat, S-S

NSN: 8415-00-FAB-5729—ACU Coat, S-L

NSN: 8415-00-FAB-5731—ACU Coat, M-XXS

NSN: 8415-00-FAB-5730—ACU Coat, S-XL

NSN: 8415-00-FAB-5732—ACU Coat, M-XS

NSN: 8415-00-FAB-5733—ACU Coat, M-S

NSN: 8415-00-FAB-5734—ACU Coat, M-R

NSN: 8415-00-FAB-5735—ACU Coat, M-L

NSN: 8415-00-FAB-5736—ACU Coat, M-XL

NSN: 8415-00-FAB-5737—ACU Coat, L-XS

NSN: 8415-00-FAB-5738—ACU Coat, L-S

NSN: 8415-00-FAB-5739—ACU Coat, L-R

NSN: 8415-00-FAB-5740—ACU Coat, L-L

NSN: 8415-00-FAB-5741—ACU Coat, L-XL

NSN: 8415-00-FAB-5745—ACU Coat, XL-XL

NSN: 8415-00-FAB-5744—ACU Coat, XL-L

NSN: 8415-00-FAB-5742—ACU Coat, L-XXL

NSN: 8415-00-FAB-5746—ACU Coat, XXL-XL

NSN: 8415-00-FAB-5743—ACU Coat, XL-R

NSN: 8415-00-FAB-0521—ACU Coat, XS-L

NSN: 8415-00-FAB-0523—ACU Coat, XS-XL

NSN: 8415-00-FAB-1733—ACU Coat, XL-S

NSN: 8415-00-FAB-0531—ACU Coat, XXL-R

NSN: 8415-00-FAB-1734—ACU Coat, XXL-L

NSN: 8415-00-FAB-1730—ACU Coat, XS-XXS

NSN: 8415-00-FAB-1731—ACU Coat, M-XXL

NSN: 8415-00-FAB-0525—ACU Coat, L-XXS

NSN: 8415-00-FAB-0529—ACU Coat, XL-XXS

NSN: 8415-00-FAB-1732—ACU Coat, XL-XS

NSN: 8415-00-FAB-0542—ACU Coat, XL-XXL

NSN: 8415-00-FAB-0541—ACU Coat, XXL-XXL

NSN: 8415-00-FAB-5747—ACU Trouser, XS-XS

NSN: 8415-00-FAB-6701—ACU Trouser, XS-XXL

NSN: 8415-00-FAB-5748—ACU Trouser, XS-S

NSN: 8415-00-FAB-6700—ACU Trouser, XS-XL

NSN: 8415-00-FAB-5749—ACU Trouser, XS-R

NSN: 8415-00-FAB-5752—ACU Trouser, S-S

NSN: 8415-00-FAB-5751—ACU Trouser, S-XS

NSN: 8415-00-FAB-5754—ACU Trouser, S-L

NSN: 8415-00-FAB-5755—ACU Trouser, S-XL

NSN: 8415-00-FAB-5756—ACU Trouser, M-XS

NSN: 8415-00-FAB-5753—ACU Trouser, S-R

NSN: 8415-00-FAB-5757—ACU Trouser, M-S

NSN: 8415-00-FAB-5750—ACU Trouser, XS-L

NSN: 8415-00-FAB-5758—ACU Trouser, M-R

NSN: 8415-00-FAB-5759—ACU Trouser, M-L

NSN: 8415-00-FAB-5760—ACU Trouser, M-XL

NSN: 8415-00-FAB-5761—ACU Trouser, L-S

NSN: 8415-00-FAB-5763—ACU Trouser, L-L

NSN: 8415-00-FAB-5762—ACU Trouser, L-R

NSN: 8415-00-FAB-5764—ACU Trouser, L-XL

NSN: 8415-00-FAB-5765—ACU Trouser, XL-S

NSN: 8415-00-FAB-5766—ACU Trouser, XL-R

NSN: 8415-00-FAB-5767—ACU Trouser, XL-L

NSN: 8415-00-FAB-5768—ACU Trouser, XXL-R

NSN: 8415-00-FAB-4667—ACU Trouser, S-XXL

NSN: 8415-00-FAB-4674—ACU Trouser, M-XXL

NSN: 8415-00-FAB-8074—ACU Trouser, L-XS

NSN: 8415-00-FAB-4673—ACU Trouser, L-XXL

NSN: 8415-00-FAB-4672—ACU Trouser, XL-XS

NSN: 8415-00-FAB-4671—ACU Trouser, XL-XL

NSN: 8415-00-FAB-4669—ACU Trouser, XL-XXL

NSN: 8415-00-FAB-4668—ACU Trouser, XXL-XS

NSN: 8415-00-FAB-8075—ACU Trouser, XXL-S

NSN: 8415-00-FAB-8080—ACU Trouser, XXL-L

NSN: 8415-00-FAB-4650—ACU Trouser, XXL-XL

NSN: 8415-00-FAB-4649—ACU Trouser, XXL-XXL

NSN: 8405-00-FAB-4220—HDU Trouser, 28X32

NSN: 8405-00-FAB-4221—HDU Trouser, 30X28

NSN: 8405-00-FAB-4222—HDU Trouser, 30X30

NSN: 8405-00-FAB-4223—HDU Trouser, 30X32

NSN: 8405-00-FAB-4224—HDU Trouser, 30X34

NSN: 8405-00-FAB-4225—HDU Trouser, 30X36

NSN: 8405-00-FAB-4226—HDU Trouser, 32X28

NSN: 8405-00-FAB-4227—HDU Trouser, 32X30

NSN: 8405-00-FAB-4228—HDU Trouser, 32X32

NSN: 8405-00-FAB-4229—HDU Trouser, 32X34

NSN: 8405-00-FAB-4230—HDU Trouser, 32X36

NSN: 8405-00-FAB-4231—HDU Trouser, 34X28

NSN: 8405-00-FAB-4232—HDU Trouser, 34X30

NSN: 8405-00-FAB-4233—HDU Trouser, 34X32

NSN: 8405-00-FAB-4234—HDU Trouser, 34X34

NSN: 8405-00-FAB-4235—HDU Trouser, 34X36

NSN: 8405-00-FAB-4236—HDU Trouser, 36X28

NSN: 8405-00-FAB-4237—HDU Trouser, 36X30

NSN: 8405-00-FAB-4238—HDU Trouser, 36X32

NSN: 8405-00-FAB-4239—HDU Trouser, 36X34

NSN: 8405-00-FAB-4240—HDU Trouser, 36X36

NSN: 8405-00-FAB-4241—HDU Trouser, 38X28

NSN: 8405-00-FAB-4242—HDU Trouser, 38X30

NSN: 8405-00-FAB-4243—HDU Trouser, 38X32

NSN: 8405-00-FAB-4244—HDU Trouser, 38X34

NSN: 8405-00-FAB-4245—HDU Trouser, 38X36

NSN: 8405-00-FAB-4246—HDU Trouser, 40X28

NSN: 8405-00-FAB-4247—HDU Trouser, 40X30

NSN: 8405-00-FAB-4248—HDU Trouser, 40X32

NSN: 8405-00-FAB-4249—HDU Trouser, 40X34

NSN: 8405-00-FAB-4250—HDU Trouser, 40X36

NSN: 8405-00-FAB-4251—HDU Trouser, 42X28

NSN: 8405-00-FAB-4252—HDU Trouser, 42X30

NSN: 8405-00-FAB-4253—HDU Trouser, 42X32

NSN: 8405-00-FAB-4254—HDU Trouser, 42X34

NSN: 8405-00-FAB-4255—HDU Trouser, 42X36

NSN: 8405-00-FAB-4256—HDU Trouser, 44X28

NSN: 8405-00-FAB-4257—HDU Trouser, 44X30

NSN: 8405-00-FAB-4258—HDU Trouser, 44X32

NSN: 8405-00-FAB-4259—HDU Trouser, 44X34

NSN: 8405-00-FAB-4260—HDU Trouser, 44X36

NSN: 8405-00-FAB-4261—HDU Trouser, 46X28

NSN: 8405-00-FAB-4262—HDU Trouser, 46X30

NSN: 8405-00-FAB-4263—HDU Trouser, 46X32

NSN: 8405-00-FAB-4264—HDU Trouser, 46X34

NSN: 8405-00-FAB-4265—HDU Trouser, 46X36

NSN: 8415-00-NIB-0827—Mock Turtleneck, XS

NSN: 8415-00-NIB-0828—Mock Turtleneck, S

NSN: 8415-00-NIB-0829—Mock Turtleneck, M

NSN: 8415-00-NIB-0830—Mock Turtleneck, L

NSN: 8415-00-NIB-0831—Mock Turtleneck, XL

NSN: 8415-00-NIB-0832—Mock Turtleneck, 2X

NSN: 8415-00-NIB-0833—Mock Turtleneck, 3X

NSN: 8415-00-FAB-9788—BDU Coat, Woodland, Type I, XS/XS

NSN: 8415-00-FAB-9789—BDU Coat, Woodland, Type I, XS/S

NSN: 8415-00-FAB-9790—BDU Coat, Woodland, Type I, S/XS

NSN: 8415-00-FAB-9791—BDU Coat, Woodland, Type I, S/S

NSN: 8415-00-FAB-9792—BDU Coat, Woodland, Type I, S/R

NSN: 8415-00-FAB-9793—BDU Coat, Woodland, Type I, S/L

NSN: 8415-00-FAB-9794—BDU Coat, Woodland, Type I, M/XS

NSN: 8415-00-FAB-9795—BDU Coat, Woodland, Type I, M/S

NSN: 8415-00-FAB-9796—BDU Coat, Woodland, Type I, M/R

NSN: 8415-00-FAB-9797—BDU Coat, Woodland, Type I, M/L

NSN: 8415-00-FAB-9798—BDU Coat, Woodland, Type I, L/S

NSN: 8415-00-FAB-9799—BDU Coat, Woodland, Type I, L/L

NSN: 8415-00-FAB-9800—BDU Coat, Woodland, Type I, XL/R

NSN: 8415-00-FAB-9801—BDU Coat, Woodland, Type I, XL/L

NSN: 8415-00-FAB-9802—BDU Coat, Woodland, Type I, S/XXS

NSN: 8415-00-FAB-9803—BDU Coat, Woodland, Type I, M/XXS

NSN: 8415-00-FAB-9804—BDU Coat, Woodland, Type I, L/XS

NSN: 8415-00-FAB-9805—BDU Coat, Woodland, Type I, L/R

NSN: 8415-00-FAB-9806—BDU Coat, Woodland, Type I, XS/R

NSN: 8415-00-FAB-9807—BDU Coat, Woodland, Type I, S/XL

NSN: 8415-00-FAB-9808—BDU Coat, Woodland, Type I, M/XL

NSN: 8415-00-FAB-9809—BDU Coat, Woodland, Type I, L/XL

NSN: 8415-00-FAB-5070—BDU Coat, Woodland, Type I, XS/XXS

NSN: 8415-00-FAB-5071—BDU Coat, Woodland, Type I, XS/L

NSN: 8415-00-FAB-5072—BDU Coat, Woodland, Type I, S/XXXS

NSN: 8415-00-FAB-5073—BDU Coat, Woodland, Type I, L/XXL

NSN: 8415-00-FAB-5075—BDU Coat, Woodland, Type I, XXL/XL

NSN: 8415-00-FAB-5074—BDU Coat, Woodland, Type I, XL/XL

NSN: 8415-00-FAB-9835—BDU Coat, Woodland, Type VI, XS/XS

NSN: 8415-00-FAB-9836—BDU Coat, Woodland, Type VI, XS/R

NSN: 8415-00-FAB-9837—BDU Coat, Woodland, Type VI, S/S

NSN: 8415-00-FAB-9838—BDU Coat, Woodland, Type VI, S/XL

NSN: 8415-00-FAB-9839—BDU Coat, Woodland, Type VI, M/XS

NSN: 8415-00-FAB-9840—BDU Coat, Woodland, Type VI, M/XXS

NSN: 8415-00-FAB-9841—BDU Coat, Woodland, Type VI, S/L

NSN: 8415-00-FAB-9842—BDU Coat, Woodland, Type VI, M/R

NSN: 8415-00-FAB-9843—BDU Coat, Woodland, Type VI, S/R

NSN: 8415-00-FAB-9844—BDU Coat, Woodland, Type VI, XS/S

NSN: 8415-00-FAB-9845—BDU Coat, Woodland, Type VI, M/XL

NSN: 8415-00-FAB-9846—BDU Coat, Woodland, Type VI, M/S

NSN: 8415-00-FAB-9847—BDU Coat, Woodland, Type VI, M/L

NSN: 8415-00-FAB-9848—BDU Coat, Woodland, Type VI, L/R

NSN: 8415-00-FAB-9849—BDU Coat, Woodland, Type VI, L/XL

NSN: 8415-00-FAB-9850—BDU Coat, Woodland, Type VI, XL/L

NSN: 8415-00-FAB-9851—BDU Coat, Woodland, Type VI, L/L

NSN: 8415-00-FAB-9852—BDU Coat, Woodland, Type VI, XL/R

NSN: 8415-00-FAB-9853—BDU Coat, Woodland, Type VI, L/XS

NSN: 8415-00-FAB-9854—BDU Coat, Woodland, Type VI, S/XXS

NSN: 8415-00-FAB-9855—BDU Coat, Woodland, Type VI, S/XS

NSN: 8415-00-FAB-9856—BDU Coat, Woodland, Type VI, L/S

NSN: 8415-00-FAB-5079—BDU Coat, Woodland, Type VI, XS/XXS

NSN: 8415-00-FAB-5078—BDU Coat, Woodland, Type VI, XS/L

NSN: 8415-00-FAB-5080—BDU Coat, Woodland, Type VI, S/XXXS

NSN: 8415-00-FAB-5077—BDU Coat, Woodland, Type VI, L/XXL

NSN: 8415-00-FAB-5076—BDU Coat, Woodland, Type VI, XL/XL

NSN: 8415-00-FAB-5081—BDU Coat, Woodland, Type VI, XXL/XL

NSN: 8415-00-FAB-9813—BDU Coat, Desert, Type VII, XS/XS

NSN: 8415-00-FAB-9814—BDU Coat, Desert, Type VII, XS/S

NSN: 8415-00-FAB-9815—BDU Coat, Desert, Type VII, XS/R

NSN: 8415-00-FAB-9816—BDU Coat, Desert, Type VII, S/XXS

NSN: 8415-00-FAB-9817—BDU Coat, Desert, Type VII, S/XS

NSN: 8415-00-FAB-9818—BDU Coat, Desert, Type VII, S/S

NSN: 8415-00-FAB-9819—BDU Coat, Desert, Type VII, S/R

NSN: 8415-00-FAB-9820—BDU Coat, Desert, Type VII, S/L

NSN: 8415-00-FAB-9821—BDU Coat, Desert, Type VII, S/XL

NSN: 8415-00-FAB-9822—BDU Coat, Desert, Type VII, M/XXS

NSN: 8415-00-FAB-9823—BDU Coat, Desert, Type VII, M/XS

NSN: 8415-00-FAB-9824—BDU Coat, Desert, Type VII, M/S

NSN: 8415-00-FAB-9825—BDU Coat, Desert, Type VII, M/R

NSN: 8415-00-FAB-9826—BDU Coat, Desert, Type VII, M/L

NSN: 8415-00-FAB-9827—BDU Coat, Desert, Type VII, M/XL

NSN: 8415-00-FAB-9828—BDU Coat, Desert, Type VII, L/XS

NSN: 8415-00-FAB-9829—BDU Coat, Desert, Type VII, L/S

NSN: 8415-00-FAB-9830—BDU Coat, Desert, Type VII, L/R

NSN: 8415-00-FAB-9831—BDU Coat, Desert, Type VII, L/L

NSN: 8415-00-FAB-9832—BDU Coat, Desert, Type VII, L/XL

NSN: 8415-00-FAB-9833—BDU Coat, Desert, Type VII, XL/R

NSN: 8415-00-FAB-9834—BDU Coat, Desert, Type VII, XL/L

NSN: 8415-00-FAB-9736—BDU Coat, Desert, Type VII, XS/XXS

NSN: 8415-00-FAB-9737—BDU Coat, Desert, Type VII, L/XXL

NSN: 8415-00-FAB-9738—BDU Coat, Desert, Type VII, XL/XL

NSN: 8415-00-FAB-9739—BDU Coat, Desert, Type VII, XXL/XL

NSN: 8415-00-FAB-5329—BDU Coat, Desert, Type VII, S/XXS

NSN: 8415-00-FAB-9769—BDU Trouser, Woodland, Type I, L/S

NSN: 8415-00-FAB-8253—BDU Trouser, Woodland, Type I, L/R

NSN: 8415-00-FAB-8204—BDU Trouser, Woodland, Type I, XS/XS

NSN: 8415-00-FAB-8299—BDU Trouser, Woodland, Type I, XS/R

NSN: 8415-00-FAB-8300—BDU Trouser, Woodland, Type I, S/XS

NSN: 8415-00-FAB-8205—BDU Trouser, Woodland, Type I, S/S

NSN: 8415-00-FAB-8301—BDU Trouser, Woodland, Type I, S/R

NSN: 8415-00-FAB-8206—BDU Trouser, Woodland, Type I, S/L

NSN: 8415-00-FAB-8302—BDU Trouser, Woodland, Type I, M/XS

NSN: 8415-00-FAB-8207—BDU Trouser, Woodland, Type I, M/S

NSN: 8415-00-FAB-8208—BDU Trouser, Woodland, Type I, M/R

NSN: 8415-00-FAB-8209—BDU Trouser, Woodland, Type I, L/L

NSN: 8415-00-FAB-8303—BDU Trouser, Woodland, Type I, XL/R

NSN: 8415-00-FAB-8304—BDU Trouser, Woodland, Type I, XS/S

NSN: 8415-00-FAB-8210—BDU Trouser, Woodland, Type I, M/L

NSN: 8415-00-FAB-8305—BDU Trouser, Woodland, Type I, XL/S

NSN: 8415-00-FAB-8306—BDU Trouser, Woodland, Type I, XS/L

NSN: 8415-00-FAB-8307—BDU Trouser, Woodland, Type I, S/XL

NSN: 8415-00-FAB-8308—BDU Trouser, Woodland, Type I, M/XL

NSN: 8415-00-FAB-8211—BDU Trouser, Woodland, Type I, L/XL

NSN: 8415-00-FAB-8212—BDU Trouser, Woodland, Type I, XL/L

NSN: 8415-00-FAB-8271—BDU Trouser, Woodland, Type I, M/XXL

NSN: 8415-00-FAB-8272—BDU Trouser, Woodland, Type I, L/XXL

NSN: 8415-00-FAB-8273—BDU Trouser, Woodland, Type I, XXL/XXL

NSN: 8415-00-FAB-8578—BDU Trouser, Woodland, Type VI, XS/XS

NSN: 8415-00-FAB-8577—BDU Trouser, Woodland, Type VI, XS/S

NSN: 8415-00-FAB-8254—BDU Trouser, Woodland, Type VI, XS/L

NSN: 8415-00-FAB-8255—BDU Trouser, Woodland, Type VI, S/XS

NSN: 8415-00-FAB-8247—BDU Trouser, Woodland, Type VI, S/L

NSN: 8415-00-FAB-8256—BDU Trouser, Woodland, Type VI, S/XL

NSN: 8415-00-FAB-8257—BDU Trouser, Woodland, Type VI, S/R

NSN: 8415-00-FAB-8258—BDU Trouser, Woodland, Type VI, M/S

NSN: 8415-00-FAB-8259—BDU Trouser, Woodland, Type VI, M/XS

NSN: 8415-00-FAB-8260—BDU Trouser, Woodland, Type VI, M/L

NSN: 8415-00-FAB-8248—BDU Trouser, Woodland, Type VI, M/XL

NSN: 8415-00-FAB-8249—BDU Trouser, Woodland, Type VI, M/R

NSN: 8415-00-FAB-8261—BDU Trouser, Woodland, Type VI, L/R

NSN: 8415-00-FAB-8250—BDU Trouser, Woodland, Type VI, L/S

NSN: 8415-00-FAB-8262—BDU Trouser, Woodland, Type VI, L/XL

NSN: 8415-00-FAB-8263—BDU Trouser, Woodland, Type VI, XL/S

NSN: 8415-00-FAB-8264—BDU Trouser, Woodland, Type VI, XL/L

NSN: 8415-00-FAB-8265—BDU Trouser, Woodland, Type VI, XL/R

NSN: 8415-00-FAB-8266—BDU Trouser, Woodland, Type VI, XS/R

NSN: 8415-00-FAB-8267—BDU Trouser, Woodland, Type VI, S/S

NSN: 8415-00-FAB-8251—BDU Trouser, Woodland, Type VI, L/L

NSN: 8415-00-FAB-8268—BDU Trouser, Woodland, Type VI, XXL/XXL

NSN: 8415-00-FAB-8269—BDU Trouser, Woodland, Type VI, L/XXL

NSN: 8415-00-FAB-8270—BDU Trouser, Woodland, Type VI, M/XXL

NSN: 8415-00-FAB-8227—BDU Trouser, Desert, Type VII, XS/XS

NSN: 8415-00-FAB-8228—BDU Trouser, Desert, Type VII, XS/S

NSN: 8415-00-FAB-8229—BDU Trouser, Desert, Type VII, XS/R

NSN: 8415-00-FAB-8230—BDU Trouser, Desert, Type VII, XS/L

NSN: 8415-00-FAB-8231—BDU Trouser, Desert, Type VII, S/XS

NSN: 8415-00-FAB-8232—BDU Trouser, Desert, Type VII, S/S

NSN: 8415-00-FAB-8233—BDU Trouser, Desert, Type VII, S/R

NSN: 8415-00-FAB-8234—BDU Trouser, Desert, Type VII, S/L

NSN: 8415-00-FAB-8235—BDU Trouser, Desert, Type VII, S/XL

NSN: 8415-00-FAB-8236—BDU Trouser, Desert, Type VII, M/XS

NSN: 8415-00-FAB-8237—BDU Trouser, Desert, Type VII, M/S

NSN: 8415-00-FAB-8238—BDU Trouser, Desert, Type VII, M/R

NSN: 8415-00-FAB-8239—BDU Trouser, Desert, Type VII, M/L

NSN: 8415-00-FAB-8240—BDU Trouser, Desert, Type VII, M/XL

NSN: 8415-00-FAB-8241—BDU Trouser, Desert, Type VII, L/S

NSN: 8415-00-FAB-8242—BDU Trouser, Desert, Type VII, L/R

NSN: 8415-00-FAB-8243—BDU Trouser, Desert, Type VII, L/L

NSN: 8415-00-FAB-8244—BDU Trouser, Desert, Type VII, L/XL

NSN: 8415-00-FAB-8313—BDU Trouser, Desert, Type VII, XL/S

NSN: 8415-00-FAB-8245—BDU Trouser, Desert, Type VII, XL/R

NSN: 8415-00-FAB-8246—BDU Trouser, Desert, Type VII, XL/L

NSN: 8415-00-FAB-0101—BDU Trouser, Desert, Type VII, M/2XL

NSN: 8415-00-FAB-0113—BDU Trouser, Desert, Type VII, L/2XL

NSN: 8415-00-FAB-0105—BDU Trouser, Desert, Type VII, 2XL/2XL

NSN: 8470-00-FAB-7241—IOTV Front, X-SM

NSN: 8470-00-FAB-7242—IOTV Front, SM

NSN: 8470-00-FAB-7243—IOTV Front, MD-REG

NSN: 8470-00-FAB-7244—IOTV Front, MD-LNG

NSN: 8470-00-FAB-7262—IOTV Front, LG-REG

NSN: 8470-00-FAB-7245—IOTV Front, LG-LNG

NSN: 8470-00-FAB-7246—IOTV Front, XL-REG

NSN: 8470-00-FAB-7247—IOTV Front, XL-LNG

NSN: 8470-00-FAB-7248—IOTV Front, 2XL

NSN: 8470-00-FAB-7249—IOTV Front, 3XL

NSN: 8470-00-FAB-7250—IOTV Front, 4XL

NSN: 8470-00-FAB-7251—IOTV Back, X-SM

NSN: 8470-00-FAB-7252—IOTV Back, SM

NSN: 8470-00-FAB-7253—IOTV Back, MD-REG

NSN: 8470-00-FAB-7254—IOTV Back, MD-LNG

NSN: 8470-00-FAB-7255—IOTV Back, LG-REG

NSN: 8470-00-FAB-7256—IOTV Back, LG-LNG

NSN: 8470-00-FAB-7257—IOTV Back, XL-REG

NSN: 8470-00-FAB-7258—IOTV Back, XL-LNG

NSN: 8470-00-FAB-7259—IOTV Back, 2XL

NSN: 8470-00-FAB-7260—IOTV Back, 3XL

NSN: 8470-00-FAB-7261—IOTV Back, 4XL

NSN: 8470-00-FAB-2391—OTV Vest, Desert, Small

NSN: 8470-00-FAB-2392—OTV Vest, Desert, Medium

NSN: 8470-00-FAB-2393—OTV Vest, Desert, Large

NSN: 8470-00-FAB-2394—OTV Vest, Desert, X-Large

NSN: 8470-00-FAB-0756—OTV Vest, Desert, 2X-Large

NSN: 8470-00-FAB-0881—OTV Vest, Desert, 3X-Large

NSN: 8470-00-FAB-2283—OTV Throat, Desert

NSN: 8470-00-FAB-2279—OTV Groin, Desert, Small-Medium

NSN: 8470-00-FAB-2237—OTV Groin, Desert, Large-3XLarge

NSN: 8470-00-FAB-5670—OTV Vest, Woodland, X-Small

NSN: 8470-00-FAB-5671—OTV Vest, Woodland, Small

NSN: 8470-00-FAB-5669—OTV Vest, Woodland, Medium

NSN: 8470-00-FAB-5668—OTV Vest, Woodland, Large

NSN: 8470-00-FAB-5667—OTV Vest, Woodland, X-Large

NSN: 8470-00-FAB-4440—OTV Vest, Woodland, 2X-Large

NSN: 8470-00-FAB-4441—OTV Vest, Woodland, 3X-Large

NSN: 8470-00-FAB-4442—OTV Vest, Woodland, 4X-Large

NSN: 8470-00-FAB-0882—OTV Throat, Woodland

NSN: 8470-00-FAB-0883—OTV Groin, Woodland, XSmall-Medium

NSN: 8470-00-FAB-0884—OTV Groin, Woodland, Large-4XLarge

NSN: 8470-00-FAB-3566—OTV Vest, Pantone, X-Small

NSN: 8470-00-FAB-3572—OTV Vest, Pantone, Small

NSN: 8470-00-FAB-3573—OTV Vest, Pantone, Medium

NSN: 8470-00-FAB-3571—OTV Vest, Pantone, Large

NSN: 8470-00-FAB-3570—OTV Vest, Pantone, X-Large

NSN: 8470-00-FAB-3569—OTV Vest, Pantone, 2X-Large

NSN: 8470-00-FAB-3568—OTV Vest, Pantone, 3X-Large

NSN: 8470-00-FAB-3567—OTV Vest, Pantone, 4X-Large

NSN: 8470-00-FAB-3624—OTV Throat, Pantone

NSN: 8470-00-FAB-3625—OTV Groin, Pantone, XSmall-Medium

NSN: 8470-00-FAB-3626—OTV Groin, Pantone, Large-4XLarge

NSN: 8470-00-FAB-2390—OTV Vest, Desert, XSmall

NSN: 8470-00-NIB-0031—OTV Vest, Desert, 4X

NSN: 8415-00-FAB-4705—Army IPFU Jacket, XS-S

NSN: 8415-00-FAB-4714—Army IPFU Jacket, XS-R

NSN: 8415-00-FAB-4712—Army IPFU Jacket, XS-L

NSN: 8415-00-FAB-4706—Army IPFU Jacket, S-S

NSN: 8415-00-FAB-4715—Army IPFU Jacket, S-R

NSN: 8415-00-FAB-4713—Army IPFU Jacket, S-L

NSN: 8415-00-FAB-4707—Army IPFU Jacket, M-S

NSN: 8415-00-FAB-4716—Army IPFU Jacket, M-R

NSN: 8415-00-FAB-4721—Army IPFU Jacket, M-L

NSN: 8415-00-FAB-4708—Army IPFU Jacket, L-S

NSN: 8415-00-FAB-4717—Army IPFU Jacket, L-R

NSN: 8415-00-FAB-4722—Army IPFU Jacket, L-L

NSN: 8415-00-FAB-4709—Army IPFU Jacket, XL-S

NSN: 8415-00-FAB-4718—Army IPFU Jacket, XL-R

NSN: 8415-00-FAB-4723—Army IPFU Jacket, XL-L

NSN: 8415-00-FAB-4710—Army IPFU Jacket, 2XL-S

NSN: 8415-00-FAB-4719—Army IPFU Jacket, 2XL-R

NSN: 8415-00-FAB-4724—Army IPFU Jacket, 2XL-L

NSN: 8415-00-FAB-4711—Army IPFU Jacket, 3XL-S

NSN: 8415-00-FAB-4720—Army IPFU Jacket, 3XL-R

NSN: 8415-00-FAB-4725—Army IPFU Jacket, 3XL-L

NSN: 8415-00-NIB-0858—Army IPFU Jacket (w/Digital Reflective), XS-S

NSN: 8415-00-NIB-0859—Army IPFU Jacket (w/Digital Reflective), XS-R

NSN: 8415-00-NIB-0860—Army IPFU Jacket (w/Digital Reflective), XS-L

NSN: 8415-00-NIB-0861—Army IPFU Jacket (w/Digital Reflective), S-S

NSN: 8415-00-NIB-0862—Army IPFU Jacket (w/Digital Reflective), S-R

NSN: 8415-00-NIB-0863—Army IPFU Jacket (w/Digital Reflective), S-L

NSN: 8415-00-NIB-0864—Army IPFU Jacket (w/Digital Reflective), M-S

NSN: 8415-00-NIB-0865—Army IPFU Jacket (w/Digital Reflective), M-R

NSN: 8415-00-NIB-0866—Army IPFU Jacket (w/Digital Reflective), M-L

NSN: 8415-00-NIB-0867—Army IPFU Jacket (w/Digital Reflective), L-S

NSN: 8415-00-NIB-0868—Army IPFU Jacket (w/Digital Reflective), L-R

NSN: 8415-00-NIB-0869—Army IPFU Jacket (w/Digital Reflective), L-L

NSN: 8415-00-NIB-0870—Army IPFU Jacket (w/Digital Reflective), XL-S

NSN: 8415-00-NIB-0871—Army IPFU Jacket (w/Digital Reflective), XL-R

NSN: 8415-00-NIB-0872—Army IPFU Jacket (w/Digital Reflective), XL-L

NSN: 8415-00-NIB-0873—Army IPFU Jacket (w/Digital Reflective), 2XL-S

NSN: 8415-00-NIB-0874—Army IPFU Jacket (w/Digital Reflective), 2XL-R

NSN: 8415-00-NIB-0875—Army IPFU Jacket (w/Digital Reflective), 2XL-L

NSN: 8415-00-NIB-0876—Army IPFU Jacket (w/Digital Reflective), 3XL-S

NSN: 8415-00-NIB-0877—Army IPFU Jacket (w/Digital Reflective), 3XL-R

NSN: 8415-00-NIB-0878—Army IPFU Jacket (w/Digital Reflective), 3XL-L

NSN: 8415-00-FAB-5407—Army IPFU Pants, L-R

NSN: 8415-00-FAB-5416—Army IPFU Pants, XL-R

NSN: 8415-00-FAB-5401—Army IPFU Pants, 2XL-R

NSN: 8415-00-FAB-5404—Army IPFU Pants, 3XL-R

NSN: 8415-00-FAB-5412—Army IPFU Pants, S-L

NSN: 8415-00-FAB-5409—Army IPFU Pants, M-L

NSN: 8415-00-FAB-5406—Army IPFU Pants, L-L

NSN: 8415-00-FAB-5415—Army IPFU Pants, XL-L

NSN: 8415-00-FAB-5400—Army IPFU Pants, 2XL-L

NSN: 8415-00-FAB-5403—Army IPFU Pants, 3XL-L

NSN: 8415-00-FAB-5420—Army IPFU Pants, XS-S

NSN: 8415-00-FAB-5414—Army IPFU Pants, S-S

NSN: 8415-00-FAB-5411—Army IPFU Pants, M-S

NSN: 8415-00-FAB-5408—Army IPFU Pants, L-S

NSN: 8415-00-FAB-5417—Army IPFU Pants, XL-S

NSN: 8415-00-FAB-5402—Army IPFU Pants, 2XL-S

NSN: 8415-00-FAB-5405—Army IPFU Pants, 3XL-S

NSN: 8415-00-FAB-5419—Army IPFU Pants, XS-R

NSN: 8415-00-FAB-5413—Army IPFU Pants, SS-R

NSN: 8415-00-FAB-5410—Army IPFU Pants, M-R

NPA: Blind Industries & Services of Maryland, Baltimore, MD

Contracting Activity: Department of Justice, Federal Prison System, Unicor, Washington, DC

Coverage: C-List for 100% of the requirements of UNICOR as aggregated by Federal Prison Industries.

NSN: 7510-00-NIB-1792—Laser Toner Cartridge, HP 53A & 53X compatible

NSN: 7510-00-NIB-1794—Laser Toner Cartridge, HP 12A compatible

NSN: 7510-00-NIB-1795—Laser Toner Cartridge, HP 13A & 13X compatible

NSN: 7510-00-NIB-1800—Laser Toner Cartridge, HP 42A and 42X compatible

NSN: 7510-00-NIB-1801—Laser Toner Cartridge, HP 49A compatible

NSN: 7510-00-NIB-1802—Laser Toner Cartridge, HP 49X compatible

Coverage: A-List for the Total Government Requirement as aggregated by the General Services Administration.

NSN: 7510-00-NIB-1793—Laser Toner Cartridge, HP 10A compatible

NSN: 7510-00-NIB-1796—Laser Toner Cartridge, HP 39A compatible

NSN: 7510-00-NIB-1797—Laser Toner Cartridge, HP 96A compatible

NSN: 7510-00-NIB-1798—Laser Toner Cartridge, HP 51A & 51X compatible

NSN: 7510-00-NIB-1799—Laser Toner Cartridge, 43X compatible

Coverage: B-List for the Broad Government Requirement as aggregated by the General Services Administration.

NPA: Alabama Industries for the Blind, Talladega, AL

Contracting Activity: GSA/Federal Acquisition Service, New York, NY.

NSN: 7530-00-NIB-0921—Thermal Paper, Calculator and Printing Machine

Coverage: A-List for the Total Government Requirement as aggregated by the General Services Administration.

NSN: 7530-00-NIB-0922—Thermal Paper Rolls, Cash Register/Point of Sale

NSN: 7530-00-NIB-0923—Thermal Paper Roll

Coverage: B-List for the Broad Government Requirement as aggregated by the General Services Administration.

NPA: Cincinnati Association for the Blind, Cincinnati, OH

Contracting Activity: GSA/Federal Acquisition Service, New York, NY.

NSN: 4510-01-426-4187—SKILCRAFT-Zep Meter Mist 3000 Plus Dispenser

NPA: Envision, Inc., Wichita, KS

NSN: 6840-01-368-4785—SKILCRAFT-Zep Meter Mist Refill

NSN: 6840-01-368-4787—SKILCRAFT-Zep Meter Mist Refill

NSN: 6840-01-368-4789—SKILCRAFT-Zep Meter Mist Refill

NSN: 6840-01-425-8232—SKILCRAFT-Zep Meter Mist Refill

NSN: 6840-01-429-5864—SKILCRAFT-Zep Meter Mist Refill

NPA: Lighthouse for the Blind, St. Louis, MO

Contracting Activity: GSA/Federal Acquisition Service, Fort Worth, TX.

Coverage: A-List for the Total Government Requirement as aggregated by the General Services Administration.

NSN: 9905-00-NIB-0046—Wet Floor Sign.

NPA: New York City Industries for the Blind, Inc., Brooklyn, NY.

Contracting Activity: GSA/Federal Acquisition Service, Fort Worth, TX.

Coverage: A-List for the Total Government Requirement as aggregated by the General Services Administration.

NSN: 7195-00-NIB-0018—Foot Rest, Ergonomic Adjustable

NSN: 7195-00-NIB-0019—Foot Rest, Ergonomic Adjustable

NSN: 7110-00-NIB-0063—Monitor Arm, Column Mount, Ergonomic

Coverage: A-List for the Total Government Requirement as aggregated by the General Services Administration.

NSN: 7110-00-NIB-0064—Double Monitor Arm, Column Mount, Ergonomic

Coverage: B-List for the Broad Government Requirement as aggregated by the General Services Administration.

NPA: The Chicago Lighthouse for People Who Are Blind or Visually Impaired, Chicago, IL

Contracting Activity: GSA/Federal Acquisition Service, Arlington, VA.

Services

Service Type/Location: Custodial Service, National Weather Service, 587 Aero Drive, Buffalo, NY.

NPA: Suburban Adult Services, Inc., Elma, NY.

Contracting Activity: Dept of Comm/Nat Ocean and Atmos Admin, Norfolk, VA.

Service Type/Location: Custodial Service, Marine Corps Air Station, Cherry Point, NC.

NPA: Coastal Enterprises of Jacksonville, Inc., Jacksonville, NC

Contracting Activity: Dept of the Navy, Naval FAC Engineering CMD MID LANT, Norfolk, VA.

Service Type/Location: Custodial Service, Hickam AFB, HI.

NPA: Opportunities for the Retarded, Inc., Wahiawa, HI.

Contracting Activity: Dept of the Air Force, FA5215 15 CONS LGC, Hickam AFB, HI.

Service Type/Location: Mail Service, DFAS, Indianapolis, IN, (Offsite: AWRC, 2762 Rand Road, Indianapolis, IN)

NPA: Anthony Wayne Rehabilitation Center for Handicapped and Blind, Inc., Fort Wayne, IN

Contracting Activity: Defense Finance and Accounting Service (DFAS), Indianapolis, IN.

Barry S. Lineback,
Director, Business Operations.

[FR Doc. 2010-21380 Filed 8-26-10; 8:45 am]

BILLING CODE 6353-01-P